DEPARTMENT OF THE INTERIOR

Fish and Wildlife Service

[FWS-R8-ES-2009-N245; 81440-1113-0000-F3]

Proposed Safe Harbor Agreement for California Red-Legged Frog, Least Bell's Vireo, and Southwestern Willow Flycatcher, on Lands Owned or Managed or Both by the Ojai Valley Land Conservancy Within the Ventura River Watershed, Ventura County, CA

AGENCY: U.S. Fish and Wildlife Service, Interior.

ACTION: Notice of availability; receipt of application and proposed safe harbor agreement.

SUMMARY: We, the U.S. Fish and Wildlife Service (Service), have received an application for an enhancement of survival permit for the federally threatened California red-legged frog (Rana aurora draytonii) and federally endangered least Bell's vireo (Vireo bellii pusillus) and southwestern willow flycatcher (Empidonax traillii extimus) under the Endangered Species Act of 1973, as amended (Act), from the Ojai Valley Land Conservancy (Applicant). This permit application includes a proposed safe harbor agreement (Agreement) between the Applicant and the Service. The Agreement and permit application are available for public comment.

DATES: In order to ensure we are able to consider your comments, send them to us on or before January 8, 2010.

ADDRESSES: Use one of the following methods to send us your comments.

• Mail your comments to: Field Supervisor; U.S. Fish and Wildlife Service; Ventura Fish and Wildlife Office; 2493 Portola Road, Suite B; Ventura, CA 93003.

• Fax your comments to: (805) 644-3958.

• E-mail your comments to: fw8SHAOVLC@fws.gov.

FOR FURTHER INFORMATION CONTACT: Eric Morrissette, Safe Harbor Coordinator, Ventura Fish and Wildlife Office (see ADDRESSES), telephone (805) 644-1766.

SUPPLEMENTARY INFORMATION:

Availability of Documents

You may obtain copies of the documents for review by contacting the individual named in the FOR FURTHER INFORMATION CONTACT section. You also may make an appointment to view the documents at the Ventura Fish and Wildlife Office (see ADDRESSES) during normal business hours.

Public Availability of Comments

Before including your address, phone number, e-mail address, or other personal identifying information in your comment, you should be aware that your entire comment—including your personal identifying information—may be made publicly available at any time. While you can ask us in your comment to withhold your personal identifying information from public review, we cannot guarantee that we will be able to do so.

Background

Under a safe harbor agreement, participating landowners voluntarily undertake management activities on their property to enhance, restore, or maintain habitat benefiting species listed under the Act (16 U.S.C. 1531 et seq.). Safe harbor agreements, and the subsequent permits that are issued under section 10(a)(1)(A) of the Act, encourage private and other non-Federal property owners to implement conservation efforts for listed species by assuring property owners that they will not be subjected to increased land use restrictions as a result of efforts to attract or increase the numbers or distribution of a listed species on their property. Application requirements and issuance criteria for permits through safe harbor agreements are found in 50 CFR 17.22(c).

We have worked with the Applicant to develop this proposed Agreement for the conservation of the California red-legged frog, least Bell's vireo, and southwestern willow flycatcher on the properties subject to the Agreement (Enrolled Properties), which are owned or managed by the Applicant. The Enrolled Properties include: (1) The Ventura River—Rancho El Nido Preserve, (2) the Ojai Meadows Preserve, (3) the Ventura River—Confluence Preserve, and (4) the San Antonio Creek Preserve, all in Ventura County, California. Within the 1,687 acres of land within the Enrolled Properties, habitat for the California red-legged frog, least Bell's vireo, and southwestern willow flycatcher will be restored, enhanced, and managed under a written agreement between the Applicant and Service. We expect that the activities proposed in the Agreement will result in an increase in suitable habitat for these species and provide for their increase in number and expansion into additional areas that are currently not occupied, thus resulting in a net conservation benefit for the three species.

This Agreement provides for the restoration, enhancement, and management of aquatic, riparian, and upland habitat suitable for the California red-legged frog, least Bell's vireo, and southwestern willow flycatcher on the Enrolled Properties. The proposed duration of the Agreement is 30 years, and the proposed term of the enhancement of survival permit is 30 years. The Agreement fully describes the proposed management activities to be undertaken by the Applicant and the net conservation benefits expected to be gained for the California red-legged frog, least Bell's vireo, and southwestern willow flycatcher.

Upon approval of this Agreement, and consistent with the Service's Safe Harbor Policy published in the Federal Register on June 17, 1999 (64 FR 32717), the Service would issue a permit to the Applicant authorizing take of the California red-legged frog, the least Bell's vireo, and the southwestern willow flycatcher incidental to the implementation of the management activities specified in the Agreement; incidental to other lawful uses of the Enrolled Properties, including normal, routine land management activities; and incidental to the return to pre-Agreement conditions (baseline).

Management activities included in the Agreement will provide for the restoration, enhancement, and management of native riparian habitats within the Enrolled Properties. The objective of such activities is to enhance populations of California red-legged frogs, least Bell's vireos, and southwestern willow flycatchers by increasing the amount and quality of suitable habitat on the Enrolled Properties. Take of California red-legged frogs, least Bell's vireos, and southwestern willow flycatchers incidental to the aforementioned activities is unlikely; however, it is possible that in the course of such activities or other lawful activities on the enrolled property, the Applicant could incidentally take California red-legged frog, least Bell's vireo, and southwestern willow flycatcher, thereby necessitating take authority under the permit.

Pre-Agreement conditions (baseline) have been determined for each enrolled property based on the occurrence of California red-legged frog, least Bell's vireo, and southwestern willow flycatcher and the extent of suitable habitat as provided in the Agreement. The Applicant must maintain baseline on an enrolled property in order to receive coverage regarding incidental take of California red-legged frogs, least Bell's vireos, and southwestern willow flycatchers. The Agreement and requested permit would allow the Applicant to return to baseline conditions after the end of the term of the Agreement and prior to the expiration of the 30-year permit, if so desired by the Applicant.

Public Review and Comments

The Service has made a preliminary determination that the proposed Agreement and permit application are eligible for categorical exclusion under the National Environmental Policy Act of 1969 (NEPA) (42 U.S.C. 4321 et seq.). We explain the basis for this determination in an Environmental Action Statement, which also is available for public review.

Individuals wishing copies of the permit application, copies of our draft Environmental Action Statement, and copies of the Agreement, including a map of the proposed permit area, should contact the Ventura Fish and Wildlife Office (see ADDRESSES).

If you wish to comment on the permit application or the Agreement, you may submit your comments to the address listed in the ADDRESSES section of this document. Comments and materials received, including names and addresses of respondents, will be available for public review, by appointment, during normal business hours at the address in the ADDRESSES section above and will become part of the public record, under section 10(c) of the Act. Individual respondents may request that we withhold their home address from the record, which we will honor to the extent allowable by law. There also may be circumstances in which we would withhold from the record a respondent's identity, as allowable by law. If you wish us to withhold your name or address or both, you must state this prominently at the beginning of your comment. All submissions from organizations or businesses, and from individuals identifying themselves as representatives or officials of organizations or businesses, are available for public inspection in their entirety.

We will evaluate this permit application, associated documents, and comments we receive to determine whether the permit application meets the requirements of section 10(a) of the Act and NEPA regulations. If we determine that the requirements are met, we will sign the proposed Agreement and issue an enhancement of survival permit under section 10(a)(1)(A) of the Act to the Applicant for take of the California red-legged frog, the least Bell's vireo, and the southwestern willow flycatcher incidental to otherwise lawful activities in accordance with the terms of the Agreement. We will not make our final decision until after the end of the 30-day comment period and will fully consider all comments we receive during the comment period.

The Service provides this notice under section 10(c) of the Act and under implementing regulations for NEPA (40 CFR 1506.6).

Dated: December 2, 2009.
Diane K. Noda,
Field Supervisor, Ventura Fish and Wildlife Office.

[FR Doc. E9-29354 Filed 12-8-09; 8:45 am]

BILLING CODE 4310-55-P